DEPARTMENT OF JUSTICE

Antitrust Division

Notice Pursuant to the National Cooperative Research and Production Act of 1993—SEMATECH, Inc. d/b/a International SEMATECH

Notice is hereby given that, on January 19, 2001, pursuant to section 6(a) of the National Cooperative Research and Production Act of 1993, 15 U.S.C. 4301 et seq. (“the Act”), SEMATECH, Inc. (which is doing business as International SEMATECH) has filed written notifications simultaneously with the Attorney General and the Federal Trade Commission disclosing changes in its membership and project status. The notifications were filed for the purpose of extending the Act's provisions limiting the recovery of antitrust plaintiffs to actual damages under specified circumstances. Specifically, CONEXANT Systems, Inc., Newport Beach, CA; Hyundai Electronics Industries Company, Ltd., Kyoungki-do, REPUBLIC OF KOREA; Infineon Technologies, Munich, GERMANY; Philips Semiconductors International BV, Eindhoven, THE NETHERLANDS; STMicroelectronics, Geneva, SWITZERLAND; and Taiwan Semiconductor Manufacturing Company, Ltd. Hsin-Chu, TAIWAN have been added as parties to this venture. Also, Digital Equipment Corporation, Hudson, MA; National Semiconductor Corporation, Santa Clara, CA; and Rockwell International, Newport Beach, CA have been dropped as parties to this venture. The current list of parties to the venture is as follows: Advanced Micro Devices, Inc., Sunnyvale, CA; CONEXANT Systems, Inc., Newport Beach, CA; Hewlett-Packard Company, Palo Alto, CA; Hyundai Electronics industries Company, Ltd., Kyoungki-do, REPUBLIC OF KOREA; Infineon Technologies, Munich, GERMANY; International Business Machines Corporation, Armonk, NY; Intel Corporation, Santa Clara, CA; Lucent Technologies, Inc., Murray Hill, NJ; Motorola, Inc., Shaumburg, IL; Philips Semiconductors International BV, Eindhoven, THE NETHERLANDS; STMicroelectronics, Geneva, SWITZERLAND; Taiwan Semiconductor Manufacturing Company, Ltd., Hsin-Chu, TAIWAN; and Texas Instruments, Inc., Dallas, TX.

The scope of the venture has expanded by conducting programs that were previously performed by its subsidiary, specifically programs in lithography, environmental safety and health, standards, and equipment productivity improvement team projects and manufacturing methods. Also, the nature and objectives of the venture are to perform and sponsor research and development of standards, facilities, software, processes, materials and equipment for advanced semiconductor manufacturing for the benefit of its members and for the industry as a whole. This work is done in conjunction with its members; suppliers of equipment, materials, services and software to the industry; universities; research laboratories and institutes; and government agencies and laboratories. International SEMATECH also sponsors workshops and conferences among industry, academia and government on technical and business challenges facing the semiconductor industry and facilitates the preparation and publication of the International Technology Roadmap for Semiconductors. International SEMATECH further conducts and sponsors efforts to make business processes in the industry more efficient, including creating models of the cost of owning and operating semiconductor equipment and facilities and analysis of larger economic trends in the industry. International SEMATECH provides various services, including wafer processing services, to companies in the industry, including equipment and materials suppliers, to help them research and develop advanced facilities, equipment and materials more quickly and efficiently.

No other changes have been made in either the membership or planned activity of the group research project. Membership in this group research project remains open, and International SEMATECH intends to file additional written notification disclosing all changes in membership.

On April 22, 1988, SEMATECH, Inc. filed its original notification pursuant to section 6(a) of the Act. The Department of Justice published a notice in the Federal Register pursuant to section 6(b) of the Act on May 19, 1988 (53 FR 17987).

The last notification was filed with the Department on February 9, 1998. A notice has not yet been published in the Federal Register.

Constance K. Robinson,
Director of Operations, Antitrust Division.

[FR Doc. 01-10029 Filed 4-23-01; 8:45 am]

BILLING CODE 4410-11-M